DEPARTMENT OF THE INTERIOR

National Park Service

[NPS-WASO-NAGPRA-15867; PPWOCRADN0-PCU00RP14.R50000]

Notice of Intent To Repatriate Cultural Items: City of Bellingham/Whatcom Museum, Bellingham, WA

AGENCY: National Park Service, Interior.

ACTION: Notice.

SUMMARY: The City of Bellingham/Whatcom Museum (Whatcom Museum), in consultation with the appropriate Indian tribes or Native Hawaiian organizations, has determined that the cultural items listed in this notice meet the definition of unassociated funerary objects. Lineal descendants or representatives of any Indian tribe or Native Hawaiian organization not identified in this notice that wish to claim these cultural items should submit a written request to Whatcom Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Whatcom Museum at the address in this notice by July 24, 2014.

ADDRESSES: Rebecca L. Hutchins, Curator of Collections, Whatcom Museum, 121 Prospect Street, Bellingham, WA 98225, telephone (360) 778-8955, email rlhutchins@cob.org.

SUPPLEMENTARY INFORMATION: Notice is here given in accordance with the Native American Graves Protection and Repatriation Act (NAGPRA), 25 U.S.C. 3005, of the intent to repatriate cultural items under the control of Whatcom Museum, Bellingham, WA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On a series of unknown dates in 1898, 1 lot of glass seed and pound beads and 1 metal button were removed by Alan McGraw, a local school teacher, from what was described as “a Umatilla burying [sic] ground near old Fort Walla Walla” on the Columbia River in Walla Walla County, WA. Documentation indicates these objects were gathered during the year 1898, “one by one over a period of months” and that “the Indians said they had been traded by the Hudson Bay fur traders about 1813. They had been buried with their owners and exposed by shifting sands.” In 1950, these items were loaned to Whatcom Museum by Barbara Royal Blood and, in 2008, full ownership was obtained by Whatcom Museum using the process outlined in the Revised Code of Washington 63.26.

The unassociated funerary objects include 1 lot of glass seed and pound beads and 1 unadorned metal button and are represented by catalogue numbers 1950.11.11 through 1950.11.13. These beads and button are consistent in material and style to those used in exchange along the Columbia River starting in the early 19th century. The provenance of these objects within the historically documented territory of the Umatilla tribe, now part of the Confederated Tribes of the Umatilla Indian Reservation (previously listed as the Confederated Tribes of the Umatilla Reservation, Oregon), which also includes the Cayuse and Walla Walla tribes, supports the claim of cultural affiliation.

Determinations Made By Whatcom Museum

Officials of Whatcom Museum have determined that:

• Pursuant to 25 U.S.C. 3001(3)(B), the 2 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Confederated Tribes of the Umatilla Indian Reservation (previously listed as the Confederated Tribes of the Umatilla Reservation, Oregon).

Additional Requestors and Disposition

Lineal descendants or representatives of any Indian tribe or Native Hawaiian organization not identified in this notice that wish to claim these cultural items should submit a written request with information in support of the claim to Rebecca L. Hutchins, Curator of Collections, Whatcom Museum, 121 Prospect Street, Bellingham, WA 98225, telephone (360) 778-8955, email rlhutchins@cob.org, by July 24, 2014. After that date, if no additional claimants have come forward, transfer of control of the unassociated funerary objects to the Confederated Tribes of the Umatilla Indian Reservation (previously listed as the Confederated Tribes of the Umatilla Reservation, Oregon) may proceed.

Whatcom Museum is responsible for notifying the Confederated Tribes of the Umatilla Indian Reservation (previously listed as the Confederated Tribes of the Umatilla Reservation, Oregon) that this notice has been published.

Dated: May 22, 2014.
David Tarler,
Acting Manager, National NAGPRA Program.

[FR Doc. 2014-14751 Filed 6-23-14; 8:45 am]

BILLING CODE 4312-50-P